FEDERAL COMMUNICATIONS COMMISSION

47 CFR Part 73

[DA 01-179, MM Docket Nos. 96-7, 96-12, RM-8732, RM-8845, RM-8741, File No. BPH-960206IE]

Radio Broadcasting Services; Banks, Redmond, Sunriver, Corvallis and The Dalles, Oregon

AGENCY: Federal Communications Commission.

ACTION: Final rule; denial.

SUMMARY: This document denies the petition for reconsideration filed by Madgekal Broadcasting, Inc., licensee of Station KFLY, Corvallis, Oregon, as repetitive and, pursuant to Section 1.429(b) of the rules, as based on facts not previously presented. It also affirms the Commission's Report and Order granting the upgrade of Station KDBX (FM), Banks, Oregon, from Channel 298C2 to Channel 298C1, filed by Common Ground Broadcasting, superseded by American Radio Systems License Corp., and subsequently superseded by CBS, Inc; the substitution of Channel 269C2 for Channel 298C2 at Redmond, Oregon; the allotment of Channel *268C3 at The Dalles filed by LifeTalk Broadcasting Association; and the allotment of Channel 224C2 at Sunriver, Oregon, filed by Hurricane Broadcasting, Inc. In addition, the Report and Order denied a settlement agreement between American Radio Systems License Corp. and Madgekal Broadcasting Inc. in which Madgekal Broadcasting Inc. would accept an upgrade for Station KFLY(FM), Corvallis, Oregon, from Channel 268C2 to Channel 268C1 for a payment of $950,000. The staff also denied Madgekal Broadcasting Inc.'s competing proposal filed as a one-step upgrade application upgrading Station KFLY to Channel 268C at Corvallis.

FOR FURTHER INFORMATION CONTACT: Victoria M. McCauley, Mass Media Bureau, (202) 418-2180.

SUPPLEMENTARY INFORMATION: This is a synopsis of the Commission's Memorandum Opinion and Order, MM Docket Nos. 96-7, 96-12, adopted January 24, 2001, and released January 26, 2001. The full text of this Commission decision is available for inspection and copying during normal business hours in the FCC Reference Center, 445 12th Street SW, Washington, DC. The complete text of this decision may also be purchased from the Commission's copy contractor, International Transcription Services, Inc., (202) 857-3800, 1231 20th Street NW, Washington, Provisions of the Regulatory Flexibility Act of 1980 do not apply to this proceeding.

Federal Communications Commission.
John A. Karousos,
Chief, Allocations Branch, Policy and Rules Division, Mass Media Bureau.

[FR Doc. 01-3411 Filed 2-8-01; 8:45 am]

BILLING CODE 6712-01-P